DEPARTMENT OF JUSTICE

Notice of Lodging of Consent Decree Pursuant to Comprehensive Environmental Response, Compensation, and Liability Act

Notice is hereby given that on October 19, 2004, a proposed Consent Decree in United States v. Cabot Corporation, et al, Civil Action No. 03-CV-1991, was lodged with the United States District Court for the District of New Jersey.

The proposed Consent Decree will settle the United States' claims against Cabot Corporation; Carpenter Technology Corporation; International Flavors and Fragrances, Inc.; Johnson Matthey Inc.; Kem Manufacturing Corporation; Metuchen Holdings, Inc.; Rütgers Organics Corporation; Waste Management of New Jersey, Inc.; CWM Chemical Services, LLC; and Spiral Metal Company, Inc. (“Settling Defendants”) pursuant to Section 107 of CERCLA, 42 U.S.C. 9607, with respect to the Site. The proposed Consent Decree will also settle potential claims against certain additional entities, Ford Motor Company, Spectraserv, and A & S Transportation, which are included in the group of Settling Defendants. Pursuant to the Consent Decree, the Settling Defendants will pay to the United States a total of $720,000 in reimbursement of response costs incurred or to be incurred by EPA or the Department of Justice at or in connection with the Site.

In addition, the Settling Defendants possess potential contribution claims under Section 113(f) of CERCLA, 42 U.S.C. 9613(f), against the Department of Defense, including the Department of the Navy, the Defense Logistics Agency, and the National Imaging and Mapping Agency (collectively, “Settling Federal Agencies”), each of which is also potentially liable with respect to the Site. Pursuant to the Consent Decree, the United States, on behalf of the Settling Federal Agencies, will pay $270,000 to the Superfund.

The Department of Justice will receive for a period of thirty (30) days from the date of this publication comments relating to the proposed Consent Decree. Comments should be addressed to the Assistant Attorney General of the Environment and Natural Resources Division, Department of Justice, Washington, DC 20530, and should refer to United States v. Cabot Corporation, et al., Civil Action No. 03-CV-1991, D.J. Ref. 90-11-3-07162.

The proposed Consent Decree may be examined at the Office of the United States Attorney, District of New Jersey, Peter Rodino Federal Building, 970 Broad Street, Newark, New Jersey 07102, and at the United States Environmental Protection Agency, Region II, 290 Broadway, New York, New York 10007-1866. During the public comment period, the proposed Consent Decree may also be examined on the following Department of Justice Web site, http://www.usdoj.gov/enrd/open.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $9.50 (25 cent per page reproduction cost) payable to the U.S. Treasury.

Ronald Gluck,
Assistant Chief, Environmental Enforcement Section, Environment and Natural Resources Division.

[FR Doc. 04-25140 Filed 11-10-04; 8:45 am]

BILLING CODE 4410-15-M